ENVIRONMENTAL PROTECTION AGENCY

40 CFR Part 68

[EPA-HQ-OEM-2015-0725; FRL-9981-66-OLEM]

RIN 2050-AG95

Accidental Release Prevention Requirements: Risk Management Programs Under the Clean Air Act

AGENCY: Environmental Protection Agency (EPA).

ACTION: Proposed rule; notification of data availability and extension of comment period; correction.

SUMMARY: The Environmental Protection Agency (EPA) issued a proposed rule in the Federal Register on May 30, 2018 to request public comment on several proposed changes to the final Risk Management Program Amendments rule (Amendments rule) issued on January 13, 2017. This document is being issued to correct technical errors in the Regulatory Impact Analysis and the Notification of Data Availability and Extension of Comment Period for the proposed rule.

DATES: Comments on the proposed rule (83 FR 24850, May 30, 2018), as extended by the Notification of Data Availability and Extension of Comment Period (83 FR 34967, July 24, 2018) must be received by August 23, 2018.

ADDRESSES: Submit comments and additional materials, identified by docket EPA-HQ-OEM-2015-0725 to the Federal eRulemaking Portal: http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: James Belke, United States Environmental Protection Agency, Office of Land and Emergency Management, 1200 Pennsylvania Ave. NW (Mail Code 5104A), Washington, DC 20460; telephone number: (202) 564-8023; email address: belke.jim@epa.gov, or Kathy Franklin, United States Environmental Protection Agency, Office of Land and Emergency Management, 1200 Pennsylvania Ave. NW (Mail Code 5104A), Washington, DC 20460; telephone number: (202) 564-7987; email address: franklin.kathy@epa.gov.

SUPPLEMENTARY INFORMATION: Detailed background information describing the proposed RMP Reconsideration rulemaking may be found in a previously published document: Accidental Release Prevention Requirements: Risk Management Programs Under the Clean Air Act; Proposed Rule (83 FR 24850, May 30, 2018).

I. What action is EPA taking?

EPA is correcting incorrect date references to the version of the Risk Management Plan (RMP) database used to extract accident history information for the years 2014 through 2016. EPA used this accident information to update the trend of accidents from RMP facilities discussed in the Regulatory Impact Analysis for the proposed Reconsideration rule (EPA. Regulatory Impact Analysis, Reconsideration of the 2017 Amendments to the Accidental Release Prevention Requirements: Risk Management Programs Under the Clean Air Act, Section 112(r)(7), April 27, 2018). EPA also referred to the 2014-2016 accident information in the Accidental Release Prevention Requirements: Risk Management Programs Under the Clean Air Act; Notification of Data Availability and Extension of Comment Period (83 FR 34967, July 24, 2018). In both documents, EPA made incorrect references to the date of the RMP database version used to extract these accident data. This document serves to correct the incorrect date references.

II. What does this correction do?

This document corrects incorrect date references to the RMP database in two locations in the regulatory record for the Accidental Release Prevention Requirements: Risk Management Programs Under the Clean Air Act; Proposed Rule (83 FR 24850, May 30, 2018). One location is on page 33 of the Regulatory Impact Analysis (RIA). Page 33 of the RIA discusses the availability of annual accident data for 2014-2016, and includes a footnote (footnote 32) indicating the source of the accident data. The footnote states: “EPA. April 2018. Risk Management Plan (RMP) Facility Accident Data, 2014-2016. USEPA, Office of Emergency Management.” This footnote should read “EPA. March 2018. Risk Management Plan (RMP) Facility Accident Data, 2014-2016. USEPA, Office of Emergency Management.”

The other location is on page 34968 of “Accidental Release Prevention Requirements: Risk Management Programs Under the Clean Air Act; Notification of Data Availability and Extension of Comment Period,” 83 FR 34967, 34968 (July 24, 2018), in the SUPPLEMENTARY INFORMATION section. Column two of this page also discusses the 2014-2016 accident data, but incorrectly indicates that EPA developed the docketed spreadsheet containing these data from the November 2017 version of the RMP database. The last sentence of the carryover paragraph at the top of column two should read: “EPA developed the latter spreadsheet from the March 2018 version of the database.”

While the facility count information discussed in the Notification of Data Availability was based on the November 2017 version of the RMP database, EPA extracted the 2014-2016 accident data from the March 2018 version of the RMP database, as indicated above. EPA notes that the previously docketed 2014-2016 accident spreadsheet contains an additional 25 accident records for the 2014-2016 period that were not available when the November 2017 version of the database was created. By using a later version of the database to extract accident records, EPA provided more up-to-date accident information to support the regulatory record. However, users who attempt to replicate EPA's 2014-2016 accident spreadsheet by extracting accident data from the November 2017 version of the RMP database (which was recently added to the rulemaking docket as EPA-HQ-OEM-2015-0725-0989) would not see the additional 25 accident records.

EPA has added a memo to the rulemaking docket dated July 25, 2018, with the subject line: Corrections to References to Risk Management Plan Accident Information for 2014-2016. This memo explains the corrections discussed above and includes a list of the 25 accidents that are included in the 2014-2016 spreadsheet but not in the November 2017 version of the RMP database.

Dated: July 25, 2018.
Reggie Cheatham,
Director, Office of Emergency Management.

[FR Doc. 2018-16372 Filed 7-30-18; 8:45 am]

BILLING CODE 6560-50-P